DEPARTMENT OF TRANSPORTATION

Office of the Secretary

[Docket No. OST-2021-0143]

Privacy Act of 1974; System of Records

AGENCY: Office of the Departmental Chief Information Office, Office of the Secretary of Transportation, DOT.

ACTION: Rescindment of a System of Records notice.

SUMMARY: The Office of the Secretary proposes to rescind the Department of Transportation system of records titled, “Department of Transportation/ALL (DOT/ALL) 20 On-line Accommodation Tracking System (OATS) System of Records”.

DATES: Applicable date: November 5, 2021.

ADDRESSES: You may submit comments, identified by docket number OST-2021-0143 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251. Instructions: You must include the agency name and docket number OST-2021-0143. All comments received will be posted without change to http://www.regulations.gov, including any personal information provided.

Privacy Act: Anyone is able to search the electronic form of all comments received in any of our dockets by the name of the individual submitting the comment (or signing the comment, if submitted on behalf of an association, business, labor union, etc.). You may review the DOT's complete Privacy Act statement in the Federal Register published on April 11, 2000 (65 FR 19477-78).

Docket: For access to the docket to read background documents or comments received, go to http://www.regulations.gov or to the street address listed above. Follow the online instructions for accessing the docket.

FOR FURTHER INFORMATION CONTACT: For general questions, please contact: Karyn Gorman, Acting Departmental Chief Privacy Officer, Privacy Office, Department of Transportation, Washington, DC 20590; privacy@dot.gov; or 202.527.3284.

SUPPLEMENTARY INFORMATION:

I. Background

In accordance with the Privacy Act of 1974, 5 U.S.C. 552a, the Department of Transportation (DOT)/Federal Aviation Administration (FAA) proposes to rescind DOT system of records titled, “Department of Transportation/ALL (DOT/ALL) On-line Accommodation Tracking System (OATS) System of Records,” 74 FR 46637 (September 10, 20009). This system of records was established to facilitate the provision of reasonable accommodations to individuals with disabilities by establishing procedures, timeframes and forms for supervisors/decision makers to use in processing requests from employees and applicants for employment. The categories of records included employee's or applicant's name, functional limitation caused by the disability, reasonable accommodation (RA) requested, explanation of how RA would assist the applicant in the application process or the employee in performing his/her job or receiving the benefits and privileges of employment, dates when the required interactive discussions were held, notes from discussion regarding the request, action by deciding official, whether medical documentation was sought, justification for requesting medical documentation, any sources of technical assistance that were consulted, and if the request was denied, the reason for denial (but not medical documentation, which will be kept in a separate file). Non-PII in the system included: The employee's or applicant's occupational series and grade or pay equivalent, operating administration, division or office, position title, office location and address and office telephone number; and the deciding official's name, title and office telephone number. The authority for maintenance of the system was the Rehabilitation Act of 1973, as amended, 29 U.S.C. 791; Executive Order 13164. The Department of Transportation determined that the Online Accommodations Tracking System (OATS) is no longer in use. The Department plans to publish a new System of Records titled “DOT/ALL 28; Employee Accommodations Files” to cover medical and religious accommodations files. Rescindment will promote the overall streamlining and management of DOT Privacy Act systems of records.

SYSTEM NAME AND NUMBER:

Department of Transportation/ALL (DOT/ALL) 20 On-line Accommodation Tracking System (OATS).

HISTORY:

A full notice of this system of records, DOT/ALL 20 On-line Accommodation Tracking System (OATS) was published in the Federal Register on September 10, 2009, at 74 FR 46637.

Issued in Washington, DC.
Karyn Gorman,
Acting, Departmental Chief Privacy Officer.

[FR Doc. 2021-24156 Filed 11-4-21; 8:45 am]

BILLING CODE 4910-9X-P